NUCLEAR REGULATORY COMMISSION

10 CFR Parts 2, 15, 19, 20, 26, 30, 40, 50, 51, 52, 55, 60, 61, 63, 70, 71, 72, 73, and 76

[NRC-2014-0032]

RIN 3150-AJ35

Miscellaneous Corrections

AGENCY: Nuclear Regulatory Commission.

ACTION: Final rule.

SUMMARY: The U.S. Nuclear Regulatory Commission (NRC) is amending its regulations to make miscellaneous corrections. These changes include updating the address for the NRC's Public Document Room (PDR), updating a footnote, correcting mathematical errors, correcting references, correcting typographical and grammatical errors, and revising language for clarity and consistency. This final rule also makes changes to the time period by which a Federal agency must refer a debt for collection through offset, and makes conforming changes to the regulations to reflect the transfer of Mississippi to NRC Region IV.

DATES: This rule is effective on December 10, 2014.

ADDRESSES: Please refer to Docket ID NRC-2014-0032 when contacting the NRC about the availability of information for this final rule. You may obtain publicly-available information related to this final rule by any of the following methods:

• Federal Rulemaking Web site: Go to http://www.regulations.gov and search for Docket ID NRC-2014-0032. Address questions about NRC dockets to Carol Gallagher; telephone: 301-287-3422; email: Carol.Gallagher@nrc.gov. For technical questions, contact the individual listed in the FOR FURTHER INFORMATION CONTACT section of this final rule.

• NRC's Agencywide Documents Access and Management System (ADAMS): You may obtain publicly-available documents online in the NRC Library at http://www.nrc.gov/reading-rm/adams.html. To begin the search, select “ADAMS Public Documents” and then select “Begin Web-based ADAMS Search.” For problems with ADAMS, please contact the NRC's PDR reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Theresa Barczy, Office of Administration, U.S. Nuclear Regulatory Commission, Washington, DC 20555-0001; telephone: 301-287-3418; email: Theresa.Barczy@nrc.gov.

SUPPLEMENTARY INFORMATION:

I. Introduction

The NRC is amending its regulations in parts 2, 15, 19, 20, 26, 30, 40, 50, 51, 52, 55, 60, 61, 63, 70, 71, 72, 73, and 76 of Title 10 of the Code of Federal Regulations (10 CFR) to make miscellaneous corrections. These changes include updating the address for the NRC's PDR, updating a footnote, correcting mathematical errors, correcting references, correcting typographical and grammatical errors, and revising language for clarity and consistency. This final rule also makes changes to the time period by which a Federal agency must refer a debt for collection through offset, and makes conforming changes to the regulations to reflect the transfer of Mississippi to NRC Region IV.

This document is necessary to inform the public of these non-substantive changes to the NRC's regulations.

II. Summary of Changes

10 CFR Part 2

Correct Reference. In § 2.810(e), this final rule removes the reference “(13 CFR 121.402(b)(2))” and replaces it with the reference “(13 CFR 121.104),” which is more accurate.

Revise a Typographical Error. In the first sentence of § 2.1023(a), this final rule removes the word “and” and replaces it with the word “an.”

Correct Number. In the second sentence of the introductory paragraph of § 2.1210(a), this final rule removes the words “forty (40) days” and replaces them with the words “one-hundred and twenty (120) days.” With this change, § 2.1210(a) conforms to § 2.341.

Correct Number. In the first sentence of § 2.1406(c), this final rule removes the words “twenty (20) days” and replaces them with the words “twenty-five (25) days.” With this change, § 2.1406(c) conforms to § 2.1407(a)(1).

10 CFR Part 15

Change Time Period for Referral of Debt for Collection through Offset. The Digital Accountability and Transparency Act of 2014 (Pub. Law 113-101) (DATA Act) amended 31 U.S.C. 3716(c)(6), “Administrative Offset,” effective May 19, 2014. This minor provision changed the time period by which a Federal agency must refer to the Secretary of the Treasury a debt owed to the U.S. Government, for collection of the debt through offset, from 180 days to 120 days. This final rule changes the number of days from 180 days to 120 days in § 15.33(b)(1) to comply with the DATA Act. This final rule also changes the number of days from 180 to 120 in the first sentences of § 15.20(d) and the introductory paragraph of § 15.20(e) for consistency.

10 CFR Part 19

Correct Contact Information for Obtaining NRC Form 3. In § 19.11(e)(2), this final rule removes the NRC phone number that has been discontinued because it was subject to frequent change and, therefore, confusing to the public; corrects the email address; and corrects the Web site address.

10 CFR Part 20

Transfer Mississippi to Region IV. In the Staff Requirements Memorandum to SECY-06-0075, dated April 26, 2006 (ADAMS Accession No. ML061160609), the Commission approved the transfer of all interactions with the State of Mississippi from NRC Region II to NRC Region IV. This final rule makes conforming changes to appendix D to 10 CFR part 20 to reflect the transfer.

10 CFR Part 26

Correct Mathematical Error. In the first sentence of § 26.135(c), this final rule removes the words “(−20 °C (−68 °F) or less)” and replaces them with the words “(−20 °C (−4 °F) or less).”

Correct Mathematical Error. In the first sentence of § 26.159(i), this final rule removes the words “−20 °C (−68 °F)” and replaces them with the words “−20 °C (−4 °F).”

Revise a Typographical Error. In the first sentence of § 26.717(g), this final rule removes the word “licensee's)” and replaces it with the word “licensees.”

10 CFR Part 30

Correct Contact Information for Obtaining NRC Form 3. In § 30.7(e)(3), this final rule removes the NRC phone number that has been discontinued because it was subject to frequent change and, therefore, confusing to the public; corrects the email address; and corrects the Web site address.

10 CFR Part 40

Correct Contact Information for Obtaining NRC Form 3. In § 40.7(e)(3), this final rule removes the NRC phone number that has been discontinued because it was subject to frequent change and, therefore, confusing to the public; corrects the email address; and corrects the Web site address.

10 CFR Part 50

Correct Contact Information for Obtaining NRC Form 3. In § 50.7(e)(2), this final rule removes the NRC phone number that has been discontinued because it was subject to frequent change and, therefore, confusing to the public; corrects the email address; and corrects the Web site address.

Correct Spelling. This final rule makes several spelling corrections by adding hyphens to words appearing in § 50.55a. In § 50.55a(b)(2)(viii)(B), this final rule replaces the word “prestressing” with “pre-stressing” and the word “prestress” with “pre-stress.” In § 50.55a(b)(2)(viii)(C), this final rule replaces the word “retensioning” with “re-tensioning”. In § 50.55a(b)(2)(ix)(J), this final rule replaces the word “leaktight” with the word “leak-tight.”

Revise Language for Consistency. This final rule revises the first sentence of § 50.82(a)(4)(i) to permit licensees to submit the Post-Shutdown Decommissioning Activities Report prior to permanent cessation of operations. This change is necessary for the language in § 50.82(a)(4)(i) to conform to § 50.82(a)(8)(iii), Section 4 of Regulatory Guide 1.184 (October 2013) (ADAMS Accession No. ML13144A840), and Section 21 of the technical basis for the Decommissioning Planning Rule (ADAMS Accession No. ML070590136).

10 CFR Part 51

Revise Reference for Clarity. In the first sentences of §§ 51.34(b) and 51.102(c), this final rule adds the words “subpart G of” in order to restore the original NRC intent that it may issue most materials licenses before the hearing on the license, if any, is completed.

Correct Address and Minor Editorial Changes. In Footnote 1 of Summary Table S-4 in § 51.52, this final rule adds the word “of” to the first sentence, corrects the NRC's address in the second sentence, and begins the third sentence with the word “The.”

Revise Typographical Errors. In § 51.53(d), this final rule revises the last sentence to correct the quotation marks around the titles of the two reports and add an apostrophe.

10 CFR Part 52

Correct the Definition of “Early Site Permit.” In 2007, a final rule, “Licenses, Certifications, and Approvals for Nuclear Power Plants” (72 FR 49352; August 28, 2007), corrected references in 10 CFR part 52 to reflect that Commission approval for an early site permit refers to a single site. However, the definition for “early site permit” in § 52.1 was inadvertently not corrected at that time, and continued to indicate that it meant Commission approval for “a site or sites.” This final rule corrects the definition in § 52.1(a) to indicate Commission approval for a singular site, and conforms to those changes made in 2007 to §§ 52.12 and 52.15(a), and subpart F of 10 CFR part 52.

Correct Contact Information for Obtaining NRC Form 3. In § 52.5(e)(2), this final rule removes the NRC phone number that has been discontinued because it was subject to frequent change and, therefore, confusing to the public; corrects the email address; and corrects the Web site address.

10 CFR Part 55

More Clearly Indicate Where Submissions Should be Sent. In § 55.5(b)(3), this final rule adds an introductory paragraph to more clearly indicate where test and research reactor or non-reactor facilities should send submissions. This final rule also removes § 55.5(b)(3)(i) and (ii), which become unnecessary once the introductory paragraph is added.

Add Language to Specify Criteria. In § 55.40(d), after the word “shall,” this final rule adds the following words: “use the criteria in NUREG-1478, `Operator Licensing Examiner Standards for Research and Test Reactors,' for all test and research reactors to.”

Correct Cross Reference. On March 31, 2008, the NRC published the Fitness-for-Duty Programs final rule (73 FR 16965). The final rule removed appendix A to 10 CFR part 26, “Guidelines for Drug and Alcohol Testing Programs,” in its entirety and incorporated the requirements into subparts E, F, and G of 10 CFR part 26. This final rule corrects § 55.53(j) to correctly reference the subparts.

Remove Obsolete Language. In the second sentence of § 55.55(b), this final rule removes the words “or telegram” and the words “or with a telegraph company.”

10 CFR Part 60

Correct Contact Information for Obtaining NRC Form 3. In § 60.9(e)(2), this final rule removes the NRC phone number that has been discontinued because it was subject to frequent change and, therefore, confusing to the public; corrects the email address; and corrects the Web site address.

10 CFR Part 61

Correct Contact Information for Obtaining NRC Form 3. In § 61.9(e)(2), this final rule removes the NRC phone number that has been discontinued because it was subject to frequent change and, therefore, confusing to the public; corrects the email address; and corrects the Web site address.

10 CFR Part 63

Correct Contact Information for Obtaining NRC Form 3. In § 63.9(e)(2), this final rule removes the NRC phone number that has been discontinued because it was subject to frequent change and, therefore, confusing to the public; corrects the email address; and corrects the Web site address.

10 CFR Part 70

Correct Contact Information for Obtaining NRC Form 3. In § 70.7(e)(3), this final rule removes the NRC phone number that has been discontinued because it was subject to frequent change and, therefore, confusing to the public; corrects the email address, and corrects the Web site address.

10 CFR Part 71

Correct Contact Information for Obtaining NRC Form 3. In § 71.9(e)(2), this final rule removes the NRC phone number that has been discontinued because it was subject to frequent change and, therefore, confusing to the public; corrects the email address; and corrects the Web site address.

10 CFR Part 72

Correct Contact Information for Obtaining NRC Form 3. In § 72.10(e)(2), this final rule removes the NRC phone number that has been discontinued because it was subject to frequent change and, therefore, confusing to the public; corrects the email address; and corrects the Web site address.

Remove Expired Certificates. Certificates of Compliance 1000, 1002, 1003, and 1005 have expired and this final rule removes them from § 72.214. The certificate holders have not opted to renew the certificates, and no other applicants have requested renewal. No casks have been loaded under these certificates.

10 CFR Part 73

Correct Reference in Authority Citation. In a final rule published on May 20, 2013 (78 FR 29520), “Physical Protection of Irradiated Reactor Fuel in Transit,” § 73.37 was revised in its entirety. This revision moved the advance notification provisions to governors of affected states for shipments of spent nuclear fuel through their “affected” States from § 73.37(f) to § 73.37(b)(2). This final rule corrects the cross reference in the authority citation for 10 CFR part 73.

Transfer Mississippi to Region IV. In the Staff Requirements Memorandum to SECY-06-0075 (April 26, 2006), the Commission approved the transfer of all interactions with the State of Mississippi from NRC Region II to NRC Region IV. This final rule makes conforming changes to appendix A to 10 CFR part 73 to reflect the transfer.

Correct Title of Appendix. Appendix C to 10 CFR part 73 applies to facilities other than nuclear power plants. Therefore, this final rule corrects the title of appendix C to 10 CFR part 73 by removing the words “Nuclear Power Plant” from the title and replacing them with the word “Licensee.” This change also conforms the title of the appendix to the existing reference in § 73.46(h)(1).

10 CFR Part 76

Correct Contact Information for Obtaining NRC Form 3. In § 76.7(e)(3), this final rule removes the NRC phone number that has been discontinued because it was subject to frequent change and, therefore, confusing to the public; corrects the email address; and corrects the Web site address.

III. Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments, because notice and opportunity for comment are unnecessary. The amendments will have no substantive impact and are of a minor and administrative nature dealing with corrections to certain CFR sections related only to management, organization, procedure, and practice. Specifically, the revisions are of the following types: updating of the address for the NRC's PDR, updating a footnote, correcting mathematical errors, correcting references, correcting typographical and grammatical errors, and revising language for clarity and consistency. This final rule also makes changes to the time period by which a Federal agency must refer a debt for collection through offset, and makes conforming changes to the regulations to reflect the transfer of Mississippi to NRC Region IV. These amendments do not require action by any person or entity regulated by the NRC. Also, the final rule does not change the substantive responsibilities of any person or entity regulated by the NRC.

IV. Environmental Impact: Categorical Exclusion

The NRC has determined that this final rule is the type of action described in categorical exclusion 10 CFR 51.22(c)(2), which excludes from a major action rules that are corrective, minor, or nonpolicy in nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The revisions are non-substantive in nature, including updating the address for the NRC's PDR, updating a footnote, correcting mathematical errors, correcting references, correcting typographical and grammatical errors, and revising language for clarity and consistency. This final rule also makes changes to the time period by which a Federal agency must refer a debt for collection through offset, and makes conforming changes to the regulations to reflect the transfer of Mississippi to NRC Region IV. They impose no new requirements and make no substantive changes to the regulations. The corrections do not involve any provisions that would impose backfits as defined in 10 CFR chapter I, or would be inconsistent with the issue finality provisions in 10 CFR part 52. For these reasons, the issuance of the rule in final form would not constitute backfitting or represent an inconsistency with any of the issue finality provisions in 10 CFR part 52. Therefore, the NRC has not prepared any additional documentation for this correction rulemaking addressing backfitting or issue finality.

List of Subjects

10 CFR Part 2

Administrative practice and procedure, Antitrust, Byproduct material, Classified information, Environmental protection, Nuclear materials, Nuclear power plants and reactors, Penalties, Sex discrimination, Source material, Special nuclear material, Waste treatment and disposal.

10 CFR Part 15

Administrative practice and procedure, Debt collection.

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 26

Alcohol abuse, Alcohol testing, Appeals, Chemical testing, Drug abuse, Drug testing, Employee assistance programs, Fitness for duty, Management actions, Nuclear power reactors, Protection of information, Reporting and recordkeeping requirements.

10 CFR Part 30

Byproduct material, Criminal penalties, Government contracts, Intergovernmental relations, Isotopes, Nuclear materials, Radiation protection, Reporting and recordkeeping requirements.

10 CFR Part 40

Criminal penalties, Government contracts, Hazardous materials transportation, Nuclear materials, Reporting and recordkeeping requirements, Source material, Uranium.

10 CFR Part 50

Antitrust, Classified information, Criminal penalties, Fire protection, Intergovernmental relations, Nuclear power plants and reactors, Radiation protection, Reactor siting criteria, Reporting and recordkeeping requirements.

10 CFR Part 51

Administrative practice and procedure, Environmental impact statement, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification, Incorporation by reference.

10 CFR Part 55

Criminal penalties, Manpower training programs, Nuclear power plants and reactors, Reporting and recordkeeping requirements.

10 CFR Part 60

Criminal penalties, High-level waste, Nuclear materials, Nuclear power plants and reactors, Reporting and recordkeeping requirements, Waste treatment and disposal.

10 CFR Part 61

Criminal penalties, Low-level waste, Nuclear materials, Reporting and recordkeeping requirements, Waste treatment and disposal.

10 CFR Part 63

Criminal penalties, High-level waste, Nuclear power plants and reactors, Reporting and recordkeeping requirements, Waste treatment and disposal.

10 CFR Part 70

Criminal penalties, Hazardous materials transportation, Material control and accounting, Nuclear materials, Packaging and containers, Radiation protection, Reporting and recordkeeping requirements, Scientific equipment, Security measures, Special nuclear material.

10 CFR Part 71

Criminal penalties, Hazardous materials transportation, Nuclear materials, Packaging and containers, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

10 CFR Part 76

Certification, Criminal penalties, Radiation protection, Reporting and recordkeeping requirements, Security measures, Special nuclear material, Uranium enrichment by gaseous diffusion.

For the reasons set out in the preamble and under the authority of the Atomic Energy Act of 1954, as amended; the Energy Reorganization Act of 1974, as amended; and 5 U.S.C. 552 and 553; the NRC is adopting the following amendments to 10 CFR parts 2, 15, 19, 20, 26, 30, 40, 50, 51, 52, 55, 60, 61, 63, 70, 71, 72, 73, and 76.

PART 2—AGENCY RULES OF PRACTICE AND PROCEDURE

1. The authority citation for part 2 continues to read as follows:

Authority: Atomic Energy Act secs. 161, 181, 191 (42 U.S.C. 2201, 2231, 2241); Energy Reorganization Act sec. 201 (42 U.S.C. 5841); FOIA 5 U.S.C. 552; Government Paperwork Elimination Act sec. 1704 (44 U.S.C. 3504 note).

Section 2.101 also issued under Atomic Energy Act secs. 53, 62, 63, 81, 103, 104 (42 U.S.C. 2073, 2092, 2093, 2111, 2133, 2134, 2135); Nuclear Waste Policy Act sec. 114(f) (42 U.S.C. 10143(f)); National Environmental Policy Act sec. 102 (42 U.S.C. 4332); Energy Reorganization Act sec. 301 (42 U.S.C. 5871).

Sections 2.102, 2.103, 2.104, 2.105, 2.321 also issued under Atomic Energy Act secs. 102, 103, 104, 183i, 189 (42 U.S.C. 2132, 2133, 2134, 2135, 2233, 2239). Sections 2.200-2.206 also issued under Atomic Energy Act secs. 161, 186, 234 (42 U.S.C. 2201(b),(i),(o), 2236, 2282); sec. 206 (42 U.S.C. 5846). Section 2.205(j) also issued under Pub. L. 101-410, as amended by section 3100(s), Pub. L. 104-134 (28 U.S.C. 2461 note). Subpart C also issued under Atomic Energy Act sec. 189 (42 U.S.C. 2239). Section 2.301 also issued under 5 U.S.C. 554. Sections 2.343, 2.346, 2.712 also issued under 5 U.S.C. 557. Section 2.340 also issued under Nuclear Waste Policy Act secs. 135, 141, Pub. L. 97-425, 96 Stat. 2232, 2241 (42 U.S.C. 10155, 10161). Section 2.390 also issued under 5 U.S.C. 552. Sections 2.600-2.606 also issued under sec. 102 (42 U.S.C. 4332). Sections 2.800 and 2.808 also issued under 5 U.S.C. 553. Section 2.809 also issued under 5 U.S.C. 553; AEA sec. 29 (42 U.S.C. 2039). Subpart K also issued under Atomic Energy Act sec. 189 (42 U.S.C. 2239); Nuclear Waste Policy Act sec. 134 (42 U.S.C. 10154). Subpart L also issued under Atomic Energy Act sec. 189 (42 U.S.C. 2239). Subpart M also issued under Atomic Energy Act sec. 184, 189 (42 U.S.C. 2234, 2239). Subpart N also issued under Atomic Energy Act sec. 189 (42 U.S.C. 2239).

2. In § 2.810, revise paragraph (e) to read as follows:

§ 2.810 NRC size standards.

* * * * *

(e) For the purposes of this section, the NRC shall use the Small Business Administration definition of receipts (13 CFR 121.104). A licensee who is a subsidiary of a large entity does not qualify as a small entity for purposes of this section.

* * * * *

3. In § 2.1023, revise paragraph (a) introductory text to read as follows:

§ 2.1023 Immediate effectiveness.

(a) Pending review and final decision by the Commission, an initial decision resolving all issues before the presiding officer in favor of issuance or amendment of either an authorization to construct a high-level radioactive waste repository at a geological repository operations area under parts 60 or 63 of this chapter, or a license to receive and possess high-level radioactive waste at a geologic repository operations area under parts 60 or 63 of this chapter will be immediately effective upon issuance except:

* * * * *

4. In § 2.1210, revise paragraph (a) introductory text to read as follows:

§ 2.1210 Initial decision and its effect.

(a) Unless the Commission directs that the record be certified to it in accordance with paragraph (b) of this section, the presiding officer shall render an initial decision after completion of an informal hearing under this subpart. That initial decision constitutes the final action of the Commission on the contested matter 120 days after the date of issuance, unless:

* * * * *

5. In § 2.1406, revise paragraph (c) to read as follows:

§ 2.1406 Initial decision—issuance and effectiveness.

* * * * *

(c) The presiding officer's initial decision is effective and constitutes the final action of the Commission twenty-five (25) days after the date of issuance of the written decision unless any party appeals to the Commission in accordance with § 2.1407 or the Commission takes review of the decision sua sponte or the regulations in this part specify other requirements with regard to the effectiveness of decisions on certain applications.

PART 15—DEBT COLLECTION PROCEDURES

6. The authority citation for part 15 continues to read as follows:

Authority: Atomic Energy Act secs. 161, 186 (42 U.S.C. 2201, 2236); Energy Reorganization Act sec. 201 (42 U.S.C. 5841); sec. 1, Pub. L. 97-258 (31 U.S.C. 3713); sec. 5, Pub. L. 89-508, (31 U.S.C. 3716); Pub. L. 97-365 (31 U.S.C. 3719); Federal Claims Collection Standards, 31 CFR Chapter IX, parts 900-904; 31 U.S.C. 3701, 3716; 31 CFR Sec. 285; 26 U.S.C. Sec. 6402(d); 31 U.S.C. 3720A; 26 U.S.C. 6402(c); 42 U.S.C. 664; Pub. L. 104-134, as amended (31 U.S.C. 3713); 5 U.S.C. 5514; Executive Order 12146 (3 CFR, 1980 Comp. pp. 409-412); Executive Order 12988 (3 CFR, 1996 Comp., pp. 157-163); Government Paperwork Elimination Act sec. 1704 (44 U.S.C. 3504 note).

§ 15.20 [Amended]

7. In § 15.20, paragraphs (d) and (e), remove the number “180” and add, in its place, the number “120”.

§ 15.33 [Amended]

8. In § 15.33, paragraph (b)(1), remove the number “180” wherever it appears and add, in its place, the number “120”.

PART 19—NOTICES, INSTRUCTIONS AND REPORTS TO WORKERS: INSPECTION AND INVESTIGATIONS

9. The authority citation for part 19 continues to read as follows:

Authority: Atomic Energy Act secs. 53, 63, 81, 103, 104, 161, 186, 234, 1701 (42 U.S.C. 2073, 2093, 2111, 2133, 2134, 2201, 2236, 2282, 2297f); Energy Reorganization Act secs. 201, 211, Pub. L. 95-601, sec. 10, as amended by Pub. L. 102-486, sec. 2902 (42 U.S.C. 5841, 5851); Government Paperwork Elimination Act sec. 1704 (44 U.S.C. 3504 note).

Section 19.32 is also issued under Energy Reorganization Act sec. 401 (42 U.S.C. 5891).

10. In § 19.11, revise paragraph (e)(2) to read as follows:

§ 19.11 Posting of notices to workers.

* * * * *

(e) * * *

(2) Additional copies of NRC Form 3 may be obtained by writing to the Regional Administrator of the appropriate U.S. Nuclear Regulatory Commission Regional Office listed in appendix D to part 20 of this chapter, via email to FORMS.Resource@nrc.gov, or by visiting the NRC's online library at http://www.nrc.gov/reading-rm/doc-collections/forms/.

* * * * *

PART 20—STANDARDS FOR PROTECTION AGAINST RADIATION

11. The authority citation for part 20 continues to read as follows:

Authority: Atomic Energy Act secs. 53, 63, 65, 81, 103, 104, 161, 182, 186, 223, 234 1701 (42 U.S.C. 2073, 2093, 2095, 2111, 2133, 2134, 2201, 2232, 2236, 2273, 2282, 2297f), Energy Reorganization Act secs. 201, 202, 206 (42 U.S.C. 5841, 5842, 5846); Government Paperwork Elimination Act sec. 1704 (44 U.S.C. 3504 note); Energy Policy Act of 2005 sec. 651(e), Pub. L. 109-58, 119 Stat. 549 (2005) (42 U.S.C. 2014, 2021, 2021b, 2111).

12. In appendix D, revise the first column, for the entries for Region II and Region IV to read as follows:

Appendix D to Part 20—United States Nuclear Regulatory Commission Regional Offices

| Address | Telephone (24 hour) | Email
* * * * * * *
Region II: Alabama, Florida, Georgia, Kentucky, North Carolina, Puerto Rico, South Carolina, Tennessee, Virginia, Virgin Islands, and West Virginia | * * *
* * * * * * *
Region IV: Alaska, Arizona, Arkansas, California, Colorado, Hawaii, Idaho, Kansas, Louisiana, Mississippi, Montana, Nebraska, Nevada, New Mexico, North Dakota, Oklahoma, Oregon, South Dakota, Texas, Utah, Washington, Wyoming, and the U.S. territories and possessions in the Pacific | * * *

PART 26—FITNESS FOR DUTY PROGRAMS

13. The authority citation for part 26 continues to read as follows:

Authority: Atomic Energy Act secs. 53, 81, 103, 104, 107, 161, 223, 234, 1701 (42 U.S.C. 2073, 2111, 2112, 2133, 2134, 2137, 2201, 2273, 2282, 2297f); Energy Reorganization Act secs. 201, 202, 206 (42 U.S.C. 5841, 5842, 5846); Government Paperwork Elimination Act sec. 1704 (44 U.S.C. 3504 note).

14. In § 26.135, revise paragraph (c) to read as follows:

§ 26.135 Split specimens.

* * * * *

(c) If the MRO confirms that the specimen in Bottle A is positive, adulterated, substituted, or invalid and the donor does not request that Bottle B be tested, the licensee or other entity shall ensure that Bottle B is maintained in long-term frozen storage (-20 °C (-4 °F) or less) for a minimum of 1 year. If a licensee testing facility elects to retain the specimen in Bottle B, rather than forwarding it to the HHS-certified laboratory with Bottle A, the licensee testing facility shall ensure proper storage conditions in the event of a prolonged power failure. After the end of 1 year, the licensee or other entity may discard Bottle B, with the exception that the licensee testing facility shall retain any specimens under legal challenge, or as requested by the NRC, until the specimen is no longer needed.

15. In § 26.159, revise paragraph (i) to read as follows:

§ 26.159 Assuring specimen security, chain of custody, and preservation.

* * * * *

(i) Long-term frozen storage at a temperature of -20 °C (-4 °F) or less ensures that positive, adulterated, substituted, and invalid urine specimens and Bottle B of a split specimen will be available for any necessary retests. Unless otherwise authorized in writing by the licensee or other entity, laboratories shall retain and place in properly secured long-term frozen storage all specimens reported as positive, adulterated, substituted, or invalid. At a minimum, such specimens must be stored for 1 year. Within this 1-year period, a licensee, other entity, or the NRC may ask the laboratory to retain the specimen for an additional period of time. If no retention request is received, the laboratory may discard the specimen at the end of 1 year. However, the laboratory shall retain any specimens under review or legal challenge until they are no longer needed.

* * * * *

16. In § 26.717, revise paragraph (g) to read as follows:

§ 26.717 Fitness-for-duty program performance data.

* * * * *

(g) Each C/V who maintains a licensee-approved drug and alcohol testing program is subject to the reporting requirements of this section and shall submit the required information either directly to the NRC or through the licensees or other entities to whom the C/V provided services during the year. Licensees, other entities, and C/Vs shall share information to ensure that the information is reported completely and is not duplicated in reports submitted to the NRC.

PART 30—RULES OF GENERAL APPLICABILITY TO DOMESTIC LICENSING OF BYPRODUCT MATERIAL

17. The authority citation for part 30 continues to read as follows:

Authority: Atomic Energy Act secs. 81, 82, 161, 181, 182, 183, 186, 223, 234 (42 U.S.C. 2111, 2112, 2201, 2231, 2232, 2233, 2236, 2273, 2282); Energy Reorganization Act secs. 201, 202, 206 (42 U.S.C. 5841, 5842, 5846); Government Paperwork Elimination Act sec. 1704 (44 U.S.C. 3504 note); Energy Policy Act of 2005, Pub. L. 109-58, 119 Stat. 549 (2005).

Section 30.7 also issued under Energy Reorganization Act sec. 211, Pub. L. 95-601, sec. 10, as amended by Pub. L. 102-486, sec. 2902 (42 U.S.C. 5851). Section 30.34(b) also issued under Atomic Energy Act sec. 184 (42 U.S.C. 2234). Section 30.61 also issued under Atomic Energy Act sec. 187 (42 U.S.C. 2237).

18. In § 30.7, revise paragraph (e)(3) to read as follows:

§ 30.7 Employee protection.

* * * * *

(e) * * *

(3) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 40—DOMESTIC LICENSING OF SOURCE MATERIAL

19. The authority citation for part 40 continues to read as follows:

Authority: Atomic Energy Act secs. 11(e)(2), 62, 63, 64, 65, 81, 161, 181, 182, 183, 186, 193, 223, 234, 274, 275 (42 U.S.C. 2014(e)(2), 2092, 2093, 2094, 2095, 2111, 2113, 2114, 2201, 2231, 2232, 2233, 2236, 2243, 2273, 2282, 2021, 2022); Energy Reorganization Act secs. 201, 202, 206 (42 U.S.C. 5841, 5842, 5846); Government Paperwork Elimination Act sec. 1704 (44 U.S.C. 3504 note); Energy Policy Act of 2005, Pub. L. 109-59, 119 Stat. 594 (2005).

Section 40.7 also issued under Energy Reorganization Act sec. 211, Pub. L. 95-601, sec. 10, as amended by Pub. L. 102-486, sec. 2902 (42 U.S.C. 5851). Section 40.31(g) also issued under Atomic Energy Act sec. 122 (42 U.S.C. 2152). Section 40.46 also issued under Atomic Energy Act sec. 184 (42 U.S.C. 2234). Section 40.71 also issued under Atomic Energy Act sec. 187 (42 U.S.C. 2237).

20. In § 40.7, revise paragraph (e)(3) to read as follows:

§ 40.7 Employee protection.

* * * * *

(e) * * *

(3) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 50—DOMESTIC LICENSING OF PRODUCTION AND UTILIZATION FACILITIES

21. The authority citation for part 50 continues to read as follows:

Authority: Atomic Energy Act secs. 102, 103, 104, 105, 147, 149, 161, 181, 182, 183, 186, 189, 223, 234 (42 U.S.C. 2132, 2133, 2134, 2135, 2167, 2169, 2201, 2231, 2232, 2233, 2236, 2239, 2273, 2282); Energy Reorganization Act secs. 201, 202, 206 (42 U.S.C. 5841, 5842, 5846); Nuclear Waste Policy Act sec. 306 (42 U.S.C. 10226); Government Paperwork Elimination Act sec. 1704 (44 U.S.C. 3504 note); Energy Policy Act of 2005, Pub. L. 109-58, 119 Stat. 194 (2005). Section 50.7 Pub. L. 95-601, sec. 10, as amended by Pub. L. 102-486, sec. 2902 (42 U.S.C. 5851). Section 50.10 also issued under Atomic Energy Act secs. 101, 185 (42 U.S.C. 2131, 2235); National Environmental Policy Act sec. 102 (42 U.S.C. 4332). Sections 50.13, 50.54(d), and 50.103 also issued under Atomic Energy Act sec. 108 (42 U.S.C. 2138).

Sections 50.23, 50.35, 50.55, and 50.56 also issued under Atomic Energy Act sec. 185 (42 U.S.C. 2235). Appendix Q also issued under National Environmental Policy Act sec. 102 (42 U.S.C. 4332). Sections 50.34 and 50.54 also issued under 204 (42 U.S.C. 5844). Sections 50.58, 50.91, and 50.92 also issued Pub. L. 97-415 (42 U.S.C. 2239). Section 50.78 also issued under Atomic Energy Act sec. 122 (42 U.S.C. 2152). Sections 50.80-50.81 also issued under Atomic Energy Act sec. 184 (42 U.S.C. 2234).

22. In § 50.7, revise paragraph (e)(2) to read as follows:

§ 50.7 Employee protection.

* * * * *

(e) * * *

(2) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

§ 50.55a [Amended]

23. In § 50.55a:

a. In paragraph (b)(2)(viii)(B), remove the word “prestressing” and add, in its place, the word “pre-stressing”, and remove the word “prestress” wherever it appears and add, in its place, the word “pre-stress”;

b. In paragraph (b)(2)(viii)(C), first sentence, remove the word “retensioning” and add, in its place, the word “re-tensioning”; and

c. In paragraph (b)(2)(ix)(J), second sentence, remove the word “leaktight” and add, in its place, the word “leak-tight”.

24. In § 50.82, revise paragraph (a)(4)(i) to read as follows:

§ 50.82 Termination of license.

* * * * *

(a) * * *

(4)(i) Prior to or within 2 years following permanent cessation of operations, the licensee shall submit a post-shutdown decommissioning activities report (PSDAR) to the NRC, and a copy to the affected State(s). The PSDAR must contain a description of the planned decommissioning activities along with a schedule for their accomplishment, a discussion that provides the reasons for concluding that the environmental impacts associated with site-specific decommissioning activities will be bounded by appropriate previously issued environmental impact statements, and a site-specific DCE, including the projected cost of managing irradiated fuel.

* * * * *

PART 51—ENVIRONMENTAL PROTECTION REGULATIONS FOR DOMESTIC LICENSING AND RELATED REGULATORY FUNCTIONS

25. The authority citation for part 51 continues to read as follows:

Authority: Atomic Energy Act sec. 161, 1701 (42 U.S.C. 2201, 2297f); Energy Reorganization Act secs. 201, 202, 211 (42 U.S.C. 5841, 5842, 5851); Government Paperwork Elimination Act sec. 1704 (44 U.S.C. 3504 note). Subpart A also issued under National Environmental Policy Act secs. 102, 104, 105 (42 U.S.C. 4332, 4334, 4335); Pub. L. 95-604, Title II, 92 Stat. 3033-3041; Atomic Energy Act sec. 193 (42 U.S.C. 2243).

Sections 51.20, 51.30, 51.60, 51.80, and 51.97 also issued under Nuclear Waste Policy Act secs. 135, 141, 148 (42 U.S.C. 10155, 10161, 10168).

Section 51.22 also issued under Atomic Energy Act sec. 274 (42 U.S.C. 2021) and under Nuclear Waste Policy Act sec. 121 (42 U.S.C. 10141).

Sections 51.43, 51.67, and 51.109 also issued under Nuclear Waste Policy Act sec. 114(f) (42 U.S.C. 10134(f)).

26. In § 51.34, revise paragraph (b) to read as follows:

§ 51.34 Preparation of finding of no significant impact.

* * * * *

(b) When a hearing is held on the proposed action under the regulations in subpart G of part 2 of this chapter or when the action can only be taken by the Commissioners acting as a collegial body, the appropriate NRC staff director will prepare a proposed finding of no significant impact, which may be subject to modification as a result of review and decision as appropriate to the nature and scope of the proceeding. In such cases, the presiding officer, or the Commission acting as a collegial body, as appropriate, will issue the final finding of no significant impact.

27. In § 51.52, revise footnote 1 to read as follows:

§ 51.52 Environmental effects of transportation of fuel and waste-Table S-4.

* * * * *

¹ Data supporting this table are given in the Commission's “Environmental Survey of Transportation of Radioactive Materials to and from Nuclear Power Plants,” WASH-1238, December 1972; and Supp. 1 of NUREG-75/038, April 1975. Both documents are available for inspection and copying at the Commission's Public Document Room, One White Flint North, 11555 Rockville Pike (first floor), Rockville, Maryland 20852 and may be obtained from National Technical Information Service, Springfield, VA 22161. The WASH-1238 is available from NTIS at a cost of $5.45 (microfiche, $2.25) and NUREG-75/038 is available at a cost of $3.25 (microfiche, $2.25).

* * * * *

28. In § 51.53, revise the last sentence of paragraph (d) to read as follows:

§ 51.53 Postconstruction environmental reports.

* * * * *

(d) * * *The “Supplement to Applicant's Environmental Report—Post Operating License Stage” may incorporate by reference any information contained in “Applicant's Environmental Report—Construction Permit Stage.”

29. In § 51.102, revise paragraph (c) to read as follows:

§ 51.102 Requirement to provide a record of decision; preparation.

* * * * *

(c) When a hearing is held on the proposed action under the regulations in subpart G of part 2 of this chapter or when the action can only be taken by the Commissioners acting as a collegial body, the initial decision of the presiding officer or the final decision of the Commissioners acting as a collegial body will constitute the record of decision. An initial or final decision constituting the record of decision will be distributed as provided in § 51.93.

PART 52—LICENSES, CERTIFICATIONS, AND APPROVALS FOR NUCLEAR POWER PLANTS

30. The authority citation for part 52 continues to read as follows:

Authority: Atomic Energy Act secs. 103, 104, 147, 149, 161, 181, 182, 183, 185, 186, 189, 223, 234 (42 U.S.C. 2133, 2201, 2167, 2169, 2232, 2233, 2235, 2236, 2239, 2282); Energy Reorganization Act secs. 201, 202, 206, 211 (42 U.S.C. 5841, 5842, 5846, 5851); Government Paperwork Elimination Act sec. 1704 (44 U.S.C. 3504 note); Energy Policy Act of 2005, Pub. L. 109-58, 119 Stat. 594 (2005).

31. In § 52.1, paragraph (a), revise the definition of “Early site permit” to read as follows:

§ 52.1 Definitions.

(a) * * *

Early site permit means a Commission approval, issued under subpart A of this part, for a site for one or more nuclear power facilities. An early site permit is a partial construction permit.

* * * * *

32. In § 52.5, revise paragraph (e)(2) to read as follows:

§ 52.5 Employee protection.

* * * * *

(e) * * *

(2) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 55—OPERATORS' LICENSES

33. The authority citation for part 55 continues to read as follows:

Authority: Atomic Energy Act secs. 107, 161, 181, 182, 68 Stat. 939, 948, 953, 223, 234 (42 U.S.C. 2137, 2201, 2231, 2232, 2273, 2282); Energy Reorganization Act secs. 201, 202 (42 U.S.C. 5841, 5842); Government Paperwork Elimination Act sec. 1704 (44 U.S.C. 3504 note).

Sections 55.41, 55.43, 55.45, and 55.59 also issued under Nuclear Waste Policy Act sec. 306 (42 U.S.C. 10226).

Section 55.61 also issued under Atomic Energy Act secs. 186, 187 (42 U.S.C. 2236, 2237).

34. In § 55.5, revise paragraph (b)(3) to read as follows:

§ 55.5 Communications.

* * * * *

(b) * * *

(3) Any application for a license or license renewal filed under the regulations in this part and all other submissions involving a test and research reactor or non-power reactor facility licensed under 10 CFR part 50 and any related inquiry, communication, information, or report must be submitted to the Office of Nuclear Reactor Regulation, Director of the Division of Policy and Rulemaking at the NRC's headquarters, by an appropriate method listed in paragraph (a) of this section.

35. In § 55.40, revise paragraph (d) to read as follows:

§ 55.40 Implementation.

* * * * *

(d) The Commission shall use the criteria in NUREG-1478, “Operator Licensing Examiner Standards for Research and Test Reactors,” for all test and research reactors to prepare, proctor, and grade the written examinations required by §§ 55.41 and 55.43 and the operating tests required by § 55.45 for non-power reactor facility licensees.

* * * * *

§ 55.53 [Amended]

36. In § 55.53, paragraph (j), fourth sentence, remove the reference “10 CFR Part 26” and add, in its place, the reference “subparts E, F, and G of part 26 of this chapter”.

37. In § 55.55, revise paragraph (b) to read as follows:

§ 55.55 Expiration.

* * * * *

(b) If a licensee files an application for renewal or an upgrade of an existing license on Form NRC-398 at least 30 days before the expiration of the existing license, it does not expire until disposition of the application for renewal or for an upgraded license has been finally determined by the Commission. Filing by mail will be deemed to be complete at the time the application is deposited in the mail.

PART 60—DISPOSAL OF HIGH-LEVEL RADIOACTIVE WASTES IN GEOLOGIC REPOSITORIES

38. The authority citation for part 60 continues to read as follows:

Authority: Atomic Energy Act secs. 51, 53, 62, 63, 65, 81, 161, 182, 183, 223, 234 (42 U.S.C. 2071, 2073, 2092, 2093, 2095, 2111, 2201, 2232, 2233, 2273, 2282); Energy Reorganization Act secs. 201, 202, 206, 211, Pub. L. 95-601, sec. 10, as amended by Pub. L. 102-486, sec. 2902 (42 U.S.C. 5841, 5842, 5846, 5851); sec. 14, Pub. L. 95-601 (42 U.S.C. 2021a); National Environmental Policy Act sec. 102 (42 U.S.C. 4332); Nuclear Waste Policy Act secs. 114, 117, 121 (42 U.S.C. 10134, 10137, 10141); Government Paperwork Elimination Act sec. 1704 (44 U.S.C. 3504 note); Energy Policy Act of 2005, Pub. L. 109-58, 119 Stat. 594 (2005).

39. In § 60.9, revise paragraph (e)(2) to read as follows:

§ 60.9 Employee protection.

* * * * *

(e) * * *

(2) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 61—LICENSING REQUIREMENTS FOR LAND DISPOSAL OF RADIOACTIVE WASTE

40. The authority citation for part 61 continues to read as follows:

Authority: Atomic Energy Act secs. 53, 57, 62, 63, 65, 81, 161, 181, 182, 183, 223, 234 (42 U.S.C. 2073, 2077, 2092, 2093, 2095, 2111, 2201, 2231, 2232, 2233, 2273, 2282); Energy Reorganization Act secs. 201, 202, 206 (42 U.S.C. 5841, 5842, 5846); sec. 211, Pub. L. 95-601, sec. 10, as amended by Pub. L. 102-486, sec. 2902 (42 U.S.C. 5851). Pub. L. 95-601, sec. 10, 14, 92 Stat. 2951, 2953 (42 U.S.C. 2021a, 5851); Government Paperwork Elimination Act sec. 1704 (44 U.S.C. 3504 note); Energy Policy Act of 2005, sec. 651(e), Pub. L. 109-58, 119 Stat. 806-810 (42 U.S.C. 2014, 2021, 2021b, 2111).

41. In § 61.9, revise paragraph (e)(2) to read as follows:

§ 61.9 Employee protection.

* * * * *

(e) * * *

(2) Copies of NRC Form 3 can be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 63—DISPOSAL OF HIGH-LEVEL RADIOACTIVE WASTES IN A GEOLOGIC REPOSITORY AT YUCCA MOUNTAIN, NEVADA

42. The authority citation for part 63 continues to read as follows:

Authority: Atomic Energy Act secs. 51, 53, 62, 63, 65, 81, 161, 182, 183 (42 U.S.C. 2071, 2073, 2092, 2093, 2095, 2111, 2201, 2232, 2233); Energy Reorganization Act secs. 201, 202, 206, 211 (42 U.S.C. 5841, 5842, 5846, 5851); sec 14, Pub. L. 95-601 (42 U.S.C. 2021a); National Environmental Policy Act sec. 102 (42 U.S.C. 4332); Nuclear Waste Policy Act secs. 114, 117, 121 (42 U.S.C. 10134, 10137, 10141); sec. 1704, 112 Stat. 2750 (44 U.S.C. 3504 note); Energy Policy Act of 2005, Pub. L. 109-58, 119 Stat. 594 (2005).

43. In § 63.9, revise paragraph (e)(2) to read as follows:

§ 63.9 Employee protection.

* * * * *

(e) * * *

(2) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 70—DOMESTIC LICENSING OF SPECIAL NUCLEAR MATERIAL

44. The authority citation for part 70 continues to read as follows:

Authority: Atomic Energy Act secs. 51, 53, 161, 182, 183, 193, 223, 234 (42 U.S.C. 2071, 2073, 2201, 2232, 2233, 2243, 2273, 2282, 2297f); secs. 201, 202, 204, 206, 211 (42 U.S.C. 5841, 5842, 5845, 5846, 5851); Government Paperwork Elimination Act sec. 1704 (44 U.S.C. 3504 note); Energy Policy Act of 2005, Pub. L. 109-58, 119 Stat. 194 (2005).

Sections 70.1(c) and 70.20a(b) also issued under secs. 135, 141, Pub. L. 97-425, 96 Stat. 2232, 2241 (42 U.S.C. 10155, 10161).

Section 70.21(g) also issued under Atomic Energy Act sec. 122 (42 U.S.C. 2152).

Section 70.31 also issued under Atomic Energy Act sec. 57(d) (42 U.S.C. 2077(d)).

Sections 70.36 and 70.44 also issued under Atomic Energy Act sec. 184 (42 U.S.C. 2234).

Section 70.81 also issued under Atomic Energy Act secs. 186, 187 (42 U.S.C. 2236, 2237).

Section 70.82 also issued under Atomic Energy Act sec. 108 (42 U.S.C. 2138).

45. In § 70.7, revise paragraph (e)(3) to read as follows:

§ 70.7 Employee protection.

* * * * *

(e) * * *

(3) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

PART 71—PACKAGING AND TRANSPORTATION OF RADIOACTIVE MATERIAL

46. The authority citation for part 71 continues to read as follows:

Authority: Atomic Energy Act secs. 53, 57, 62, 63, 81, 161, 182, 183, 223, 234, 1701 (42 U.S.C. 2073, 2077, 2092, 2093, 2111, 2201, 2232, 2233, 2273, 2282, 2297f); Energy Reorganization Act secs. 201, 202, 206, 211 (42 U.S.C. 5841, 5842, 5846, 5851); Nuclear Waste Policy Act sec. 180 (42 U.S.C. 10175); Government Paperwork Elimination Act sec. 1704 (44 U.S.C. 3504 note); Energy Policy Act of 2005, Pub. L. 109-58, 119 Stat. 594 (2005).

Section 71.97 also issued under sec. 301, Pub. L. 96-295, 94 Stat. 789-790.

47. In § 71.9, revise paragraph (e)(2) to read as follows:

§ 71.9 Employee protection.

* * * * *

(e) * * *

(2) Copies of NRC Form 3 may be obtained by writing to the Regional Administrator of the appropriate U.S. Nuclear Regulatory Commission Regional Office listed in Appendix D to Part 20 of this chapter, via email to Forms.Resource@nrc.gov, or by visiting the NRC's online library at http://www.nrc.gov/reading-rm/doc-collections/forms/.

* * * * *

PART 72—LICENSING REQUIREMENTS FOR THE INDEPENDENT STORAGE OF SPENT NUCLEAR FUEL, HIGH-LEVEL RADIOACTIVE WASTE AND REACTOR-RELATED GREATER THAN CLASS C WASTE

48. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2239, 2273, 2282, 2021); Energy Reorganization Act secs. 201, 202, 206, 211 (42 U.S.C. 5841, 5842, 5846, 5851); National Environmental Policy Act sec. 102 (42 U.S.C. 4332); Nuclear Waste Policy Act secs. 131, 132, 133, 135, 137, 141, 148 (42 U.S.C. 10151, 10152, 10153, 10155, 10157, 10161, 10168); Government Paperwork Elimination Act sec. 1704 (44 U.S.C. 3504 note); Energy Policy Act of 2005, Pub. L. 109-58, 119 Stat. 788 (2005).

Section 72.44(g) also issued under Nuclear Waste Policy Act secs. 142(b) and 148(c), (d) (42 U.S.C. 10162(b), 10168(c), (d)). Section 72.46 also issued under Atomic Energy Act sec. 189 (42 U.S.C. 2239); Nuclear Waste Policy Act sec. 134 (42 U.S.C. 10154). Section 72.96(d) also issued under Nuclear Waste Policy Act sec. 145(g) (42 U.S.C. 10165(g)). Subpart J also issued under Nuclear Waste Policy Act secs. 117(a), 141(h) (42 U.S.C. 10137(a), 10161(h)). Subpart K also issued under Nuclear Waste Policy Act sec. 218(a) (42 U.S.C. 10198).

49. In § 72.10, revise paragraph (e)(2) to read as follows:

§ 72.10 Employee protection.

* * * * *

(e) * * *

(2) Copies of NRC Form 3 may be obtained by writing to the Regional Administrator of the appropriate U.S. Nuclear Regulatory Commission Regional Office listed in appendix D to part 20 of this chapter, via email to Forms.Resource@nrc.gov, or by visiting the NRC's online library at http://www.nrc.gov/reading-rm/doc-collections/forms/.

* * * * *

§ 72.214 [Amended]

50. Amend § 72.214 by removing Certificates of Compliance 1000, 1002, 1003, and 1005.

PART 73—PHYSICAL PROTECTION OF PLANTS AND MATERIALS

51. Revise the authority citation for part 73 to read as follows:

Authority: Atomic Energy Act secs. 53, 147, 161, 223, 234, 1701 (42 U.S.C. 2073, 2167, 2169, 2201, 2282, 2297f, 2210(e)); Energy Reorganization Act sec. 201, 204 (42 U.S.C. 5841, 5844); Government Paperwork Elimination Act sec. 1704, 112 Stat. 2750 (44 U.S.C. 3504 note); Energy Policy Act of 2005, Pub. L. 109-58, 119 Stat. 594 (2005).

Section 73.1 also issued under Nuclear Waste Policy Act secs. 135, 141 (42 U.S.C. 10155, 10161).

Section 73.37(b)(2) also issued under sec. 301, Pub. L. 96-295, 94 Stat. 789 (42 U.S.C. 5841 note).

52. In appendix A, revise the first column of the entries for Region I and Region IV to read as follows:

Appendix A to Part 73—U.S. Nuclear Regulatory Commission Offices and Classified Mailing Addresses

| Address | Telephone (24 hour) | Email
* * * * * * *
Region II: Alabama, Florida, Georgia, Kentucky, North Carolina, Puerto Rico, South Carolina, Tennessee, Virginia, Virgin Islands, and West Virginia | * * *
* * * * * * *
Region IV: Alaska, Arizona, Arkansas, California, Colorado, Hawaii, Idaho, Kansas, Louisiana, Mississippi, Montana, Nebraska, Nevada, New Mexico, North Dakota, Oklahoma, Oregon, South Dakota, Texas, Utah, Washington, Wyoming, and the U.S. territories and possessions in the Pacific | * * *

* * * * *

53. In appendix C, revise the heading to read as follows:

Appendix C to Part 73—Licensee Safeguards Contingency Plans

* * * * *

PART 76—CERTIFICATION OF GASEOUS DIFFUSION PLANTS

54. The authority citation for part 76 continues to read as follows:

Authority: Atomic Energy Act secs. 161, 223, 234, 1312, 1701 (42 U.S.C. 2201, 2273, 2282, 2297b-11, 2297f); Energy Reorganization Act secs. 201, 204, 206, 211 (42 U.S.C. 5841, 5842, 5846, 5851); Government Paperwork Elimination Act sec. 1704 (44 U.S.C. 3504 note); Energy Policy Act of 2005, Pub. L. 109-58, 119 Stat. 549 (2005).

Sec. 76.22 is also issued under Atomic Energy Act sec. 193(f) (42 U.S.C. 2243(f)).

Sec. 76.35(j) also issued under Atomic Energy Act sec. 122 (42 U.S.C. 2152).

55. In § 76.7, revise paragraph (e)(3) to read as follows:

§ 76.7 Employee protection.

* * * * *

(e) * * *

(3) Copies of NRC Form 3 may be obtained by writing to the NRC Region III Office listed in appendix D to part 20 of this chapter, via email to Forms.Resource@nrc.gov, or by visiting the NRC's online library at http://www.nrc.gov/reading-rm/doc-collections/forms/.

* * * * *

Dated at Rockville, Maryland, this 4th day of November, 2014.
For the Nuclear Regulatory Commission.
Cindy Bladey,
Chief, Rules, Announcements, and Directives Branch, Division of Administrative Services, Office of Administration.

[FR Doc. 2014-26595 Filed 11-7-14; 8:45 am]

BILLING CODE 7590-01-P